NUCLEAR REGULATORY COMMISSION

[Docket No. 72-27]

Pacific Gas and Electric Company; Notice of Issuance of Materials License SNM-2514 for the Humboldt Bay Independent Spent Fuel Storage Installation

AGENCY: Nuclear Regulatory Commission.

ACTION: Issuance of Materials License.

FOR FURTHER INFORMATION CONTACT: James R. Hall, Senior Project Manager, Spent Fuel Project Office, Office of Nuclear Material Safety and Safeguards, U.S. Nuclear Regulatory Commission, Washington, DC 20555. Telephone: (301) 415-1336; fax number: (301) 415-8555; e-mail: jrh@nrc.gov.

SUPPLEMENTARY INFORMATION: The U.S. Nuclear Regulatory Commission (NRC or the Commission) has issued Materials License No. SNM-2514 to the Pacific Gas and Electric Company (PG&E) for the receipt, possession, storage, and transfer of spent fuel at the Humboldt Bay Independent Spent Fuel Storage Installation (ISFSI), to be located in Humboldt County, California. This Materials License is issued under the provisions of Title 10 of the Code of Federal Regulations, part 72 (10 CFR part 72), and is effective as of the date of issuance. A license for an ISFSI under 10 CFR part 72 is issued for 20 years, but the licensee may seek to renew the license prior to its expiration.

The Humboldt Bay ISFSI is licensed to provide interim storage in a dry cask storage system for up to 31 metric tons of uranium contained in intact and damaged fuel assemblies and associated radioactive materials resulting from the operation of the Humboldt Bay Power Plant, Unit 3. The dry cask storage system authorized for use is a site-specific version of the HI-STAR 100 system, designated as the HI-STAR HB system, designed by Holtec International.

Following receipt of PG&E's application dated December 15, 2003, the NRC staff published a “Notice of Docketing, Notice of Proposed Action, and Notice of Opportunity for a Hearing for a Materials License for the Humboldt Bay Independent Spent Fuel Storage Installation” in the Federal Register on February 11, 2004 (69 FR 6701). In conjunction with the issuance of this license, the staff published a “Notice of Issuance of Environmental Assessment and Finding of No Significant Impact for the Humboldt Bay Independent Spent Fuel Storage Installation,” in the Federal Register on November 16, 2005 (70 FR 69605). The staff's Environmental Assessment (EA) considered the impacts of the construction, operation and decommissioning of an ISFSI at the Humboldt Bay site, including impacts resulting from the use of the HI-STAR HB dry cask storage system. The staff has determined that no significant environmental impacts will result from the proposed Humboldt Bay ISFSI.

The NRC staff has completed its environmental, safeguards, and safety reviews of the Humboldt Bay ISFSI license application and safety analysis report, as amended. The NRC staff issued Materials License No. SNM-2514 and its Safety Evaluation Report (SER) for the Humboldt Bay Independent Spent Fuel Storage Installation on November 17, 2005.

Further details with respect to this action are provided in the application dated December 15, 2003, as amended October 1, 2004; the staff's EA, dated November 16, 2005; Materials License SNM-2514 and the staff's SER, dated November 17, 2005; and other related documents, which are publicly available in the records component of NRC's Agencywide Documents Access and Management System (ADAMS). These documents may be accessed through the NRC's Public Electronic Reading Room on the Internet at: http://www.nrc.gov/reading-rm/adams.html. These documents may also be viewed electronically on the public computers located at the NRC's Public Document Room (PDR), O1F21, One White Flint North, 11555 Rockville Pike, Rockville, MD 20852. Persons who do not have access to ADAMS or who encounter problems in accessing the documents located in ADAMS, should contact the NRC PDR Reference staff by telephone at 1-800-397-4209 or (301) 415-4737, or by e-mail to pdr@nrc.gov. The PDR reproduction contractor will copy documents for a fee.

Dated at Rockville, Maryland, this 17th day of November, 2005.
For the Nuclear Regulatory Commission.
James R. Hall,
Senior Project Manager, Licensing Section, Spent Fuel Project Office, Office of Nuclear Material Safety and Safeguards.

[FR Doc. E5-6549 Filed 11-25-05; 8:45 am]

BILLING CODE 7590-01-P